CONSUMER PRODUCT SAFETY COMMISSION

[Docket No. CPSC-2009-0044]

Submission for OMB Review; Comment Request: Safety Standard for Cigarette Lighters

AGENCY: Consumer Product Safety Commission.

ACTION: Notice.

SUMMARY: Pursuant to the Paperwork Reduction Act of 1995 (44 U.S.C. Chapter 35), the Consumer Product Safety Commission (Commission or CPSC) announces that it has submitted to the Office of Management and Budget (OMB) a request for extension of approval of a collection of information associated with the Commission's safety standard for cigarette lighters, 16 CFR part 1210.

DATES: Written comments on this request for extension of approval of information collection requirements should be submitted by April 29, 2013.

ADDRESSES: OMB recommends that written comments on the information collection be faxed to the Office of Information and Regulatory Affairs, OMB, Attn: CPSC Desk Officer, FAX: 202-395-6974, or emailed to oira_submission@omb.eop.gov. All comments should be identified by Docket No. CPSC-2009-0044. In addition, written comments also should be submitted at http://www.regulations.gov, under Docket No. CPSC-2009-0044, or by mail/hand delivery/courier (for paper, disk, or CD-ROM submissions), preferably in five copies, to: Office of the Secretary, U.S. Consumer Product Safety Commission, Room 820, 4330 East West Highway, Bethesda, MD 20814; telephone (301) 504-7923. For access to the docket to read background documents or comments received, go to http://www.regulations.gov.

FOR FURTHER INFORMATION CONTACT: Robert H. Squibb, U.S. Consumer Product Safety Commission, 4330 East West Highway, Bethesda, MD 20814; telephone: 301-504-7923 or by email to rsquibb@cpsc.gov.

SUPPLEMENTARY INFORMATION: In the Federal Register of January 14, 2013 (78 FR 2662), the CPSC published a notice in accordance with provisions of the Paperwork Reduction Act of 1995 (44 U.S.C. chapter 35) to announce the agency's intention to seek extension of approval of the collection of information required in the Safety Standard for Cigarette Lighters, 16 CFR part 1210. One comment was received in response to that notice. The commenter stated: “The survey does not have be done every year” and added that the new cigarette lighters coming into the market cannot be “any different than the ones that have been manufactured for the past 100 years.” The testing requirements, as well as the recordkeeping and reporting requirements, are set forth under the standard, 16 CFR part 1210, Subpart B. Before any manufacturer or importer of lighters distributes any lighter in commerce in the United States, new lighters and comparable models of cigarette lighters (called surrogate) must be tested to verify that all such models of lighters are resistant to the operation by children younger than 5 years of age. The burden hours estimates were based on the number of new models (13) and comparable models (132) submitted by manufacturers and importers of lighters to the CPSC in 2012. The Commission announces in this notice that CPSC has submitted to the OMB a request for extension of approval of that collection of information without change.

CPSC staff estimates that the total number of responses will be 145 per year (13 tested + 132 comparisons). The total number of hours consumed for these responses would be 1,826 hours per year, including new model tests (1,170 hours if done in-house), new model recordkeeping (260 hours), and recordkeeping for comparable models (396 hours). The Commission estimates the total cost for firms to test, and prepare, maintain, and submit records to the CPSC in compliance with the lighter regulation would be in the range of $90,379 to $278,132, depending upon the test method chosen.

The estimated total cost of this collection to the federal government is $344,618.

Dated: March 25, 2013.
Todd A. Stevenson,
Secretary, Consumer Product Safety Commission.

[FR Doc. 2013-07167 Filed 3-27-13; 8:45 am]

BILLING CODE 6355-01-P